DEPARTMENT OF COMMERCE

International Trade Administration

[A-421-804]

Certain Cold-Rolled Carbon Steel Flat Products From the Netherlands: Initiation and Preliminary Results of Changed Circumstances Review

AGENCY: Import Administration, International Trade Administration, U.S. Department of Commerce.

ACTION: Initiation and preliminary results of changed circumstances review.

SUMMARY: In a response to a request by petitioners (Bethlehem Steel Corporation, LTV Steel Company, Inc., National Steel Corporation, and United States Steel LLC, collectively “petitioners”) that the Department of Commerce (the Department) revoke the antidumping duty order on certain cold-rolled carbon steel flat products from the Netherlands, the Department is initiating a changed circumstances administrative review and, given that producers accounting for substantially all of the production of the domestic like product have apparently expressed a lack of interest in the order, the Department is issuing this notice of preliminary results and intent to revoke the antidumping duty order, retroactive to August 18, 1993 for unliquidated entries. Interested parties are invited to comment on these preliminary results.

EFFECTIVE DATE: November 15, 2001.

FOR FURTHER INFORMATION CONTACT: Steve Bezirganian, Import Administration, International Trade Administration, U.S. Department of Commerce, 14th Street and Constitution Avenue, NW., Washington, DC 20230; telephone (202) 482-1131.

The Applicable Statute and Regulations

Unless otherwise indicated, all citations to the Tariff Act of 1930, as amended (the Act), are references to the provisions effective January 1, 1995, the effective date of the amendments made to the Act by the Uruguay Round Agreements Act (URAA). In addition, unless otherwise indicated, all citations to the Department's regulations are to the regulations at 19 CFR part 351 (2001).

SUPPLEMENTARY INFORMATION

Background

On August 19, 1993, the Department published in the Federal Register the antidumping duty order on certain cold-rolled carbon steel flat products from the Netherlands (see Antidumping Duty Order and Amendments to Final Determinations of Sales at Less Than Fair Value: Certain Hot-Rolled Carbon Steel Flat Products and Certain Cold-Rolled Carbon Steel Flat Products from the Netherlands, 58 FR 44172 (August 19, 1993)). On December 15, 2000, the Department published in the Federal Register a revocation of the order effective January 1, 2000 (see Revocation of Antidumping and Countervailing Duty Orders on Certain Carbon Steel Products From Canada, Germany, Korea, the Netherlands, and Sweden, 65 FR 78467 (December 15, 2000)). On September 18, 2001, Bethlehem Steel Corporation, LTV Steel Company, Inc., National Steel Corporation, and United States Steel LLC (collectively, “petitioners”) requested that the order be revoked retroactively to August 18, 1993. In this letter, petitioners indicated that their revocation request applies to all unliquidated entries for consumption of the subject merchandise made from August 18, 1993 through January 1, 2000, and that domestic producers accounting for at least 85 percent of production have expressed a lack of interest in the order with respect to this period prior to January 1, 2000.

Initiation and Preliminary Results of Changed-Circumstances Reviews and Intent To Revoke the Order

Pursuant to section 751(d)(1) of the Act, the Department may revoke an antidumping duty order based on a review under section 751(b) of the Act (i.e., a changed circumstances review). Section 782(h)(2) of the Act and section 351.222(g)(1)(i) of the Department's regulations provide that the Secretary may revoke an order, in whole or in part, based on changed circumstances if “{[p]roducers accounting for substantially all of the production of the domestic like product to which the order (or the part of the order to be revoked) * * * have expressed a lack of interest in the order, in whole or in part * * * ” In this context, the Department has interpreted “substantially all” production normally to mean at least 85 percent of domestic production of the like product (see, e.g., Certain Hot-Rolled Lead and Bismuth Carbon Steel Products From the United Kingdom: Final Results of Changed-Circumstances Antidumping and Countervailing Duty Administrative Reviews, Revocation of Orders, and Recission of Administrative Reviews, 65 FR 13713, 13714 (March 14, 2000)).

Petitioners are domestic interested parties as defined by section 771(9)(C) of the Act and 19 CFR 351.102(b). Petitioners indicate that they, along with other domestic producers that have expressed a lack of interest in the order retroactive to August 18, 1993, represent at least 85 percent of the domestic production of the domestic like product to which this order pertains, and thus account for “substantially all” of the production of the domestic like product.

Based on the submission by the petitioners, the Department has preliminarily determined that domestic producers expressing a lack of interest in the order account for at least 85 percent of domestic production of the like product and, therefore, that revocation of the order in part, retroactive to August 18, 1993 for unliquidated entries, is warranted. We are hereby notifying the public of our intent to revoke in whole the antidumping duty order on certain cold-rolled carbon steel flat products from the Netherlands retroactive to August 18, 1993.

If final revocation of the order occurs, we intend to instruct the Customs Service to refund any estimated antidumping duties collected for all unliquidated entries of certain cold-rolled carbon steel flat products from the Netherlands entered, or withdrawn from warehouse, for consumption on or after August 18, 1993. We will also instruct the Customs Service to pay interest on any refunds with respect to the subject merchandise entered, or withdrawn from warehouse, for consumption on or after August 18, 1993, in accordance with section 778 of the Act.

Public Comment

Interested parties are invited to comment on these preliminary results. Parties who submit argument in these proceedings are requested to submit with the argument (1) a statement of the issue and (2) a brief summary of the argument. Any interested party may request a hearing within 10 days of the date of publication of this notice. Any hearing, if requested, will be held no later than 21 days after the date of publication of this notice, or, if that day is not a workday, the first workday thereafter. Case briefs may be submitted by interested parties not later than 7 days after the publication of this notice. Rebuttal briefs, limited to the issues raised in the case briefs, may be filed not later than 12 days after the date of publication of this notice. All written comments shall be submitted in accordance with 19 CFR 351.303 and shall be served on all interested parties on the Department's service list in accordance with 19 CFR 351.303. Persons interested in attending the hearing, should one be requested, should contact the Department for the date and time of the hearing.

In accordance with 19 CFR 351.216(e), and barring any legal prohibition, the Department will issue its final results of review within 270 days after the date on which the changed circumstance review was initiated (i.e., within 270 days after the publication of this Federal Register notice serving as both initiation and preliminary results).

This notice is published in accordance with sections 751(b)(1) and (d) and 777(i) of the Act, and with 19 CFR 351.221(c)(3).

Dated: November 5, 2001.
Joseph A. Spetrini,
Deputy Assistant Secretary for Import Administration.

[FR Doc. 01-28640 Filed 11-14-01; 8:45 am]

BILLING CODE 3510-DS-P